DEPARTMENT OF ENERGY

Federal Energy Regulatory Commission

[Project No. 12693-003]

Sutton Hydroelectric Company, LLC; Notice of Preliminary Permit Application Accepted for Filing and Soliciting Comments, Motions To Intervene, and Competing Applications

On March 1, 2013, Sutton Hydroelectric Company, LLC filed an application for a successive preliminary permit, pursuant to section 4(f) of the Federal Power Act (FPA), proposing to study the feasibility of the Sutton Hydroelectric Project (project) to be located at the U.S. Army Corps of Engineers Sutton Dam, on the Elk River, in Sutton, Braxton County, West Virginia. The sole purpose of a preliminary permit, if issued, is to grant the permit holder priority to file a license application during the permit term. A preliminary permit does not authorize the permit holder to perform any land-disturbing activities or otherwise enter upon lands or waters owned by others without the owners' express permission.

The proposed project would utilize the existing U.S. Army Corps of Engineers' Sutton Dam and would consist of: (1) A proposed powerhouse containing three generating units with a total generating capacity of 9.2 megawatts; (2) a 12-foot-diameter penstock; (3) a proposed 4,000-foot-long, 138-kilovolt transmission line; (4) a tailrace, and (5) appurtenant facilities. The project would have an estimated average annual generation of 36.0 gigawatt-hours.

Applicant Contact: Mr. David C. Sinclair, President, Advanced Hydro Solutions, LLC, 3000 Auburn Drive, Suite 430, Beachwood, OH 4122-4340; phone: (216) 472-5581.

FERC Contact: Tim Looney; phone: (202) 502-6096.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-12693-003.

More information about this project, including a copy of the application, can be viewed or printed on the “eLibrary” link of Commission's Web site at http://www.ferc.gov/docs-filing/elibrary.asp. Enter the docket number (P-12693) in the docket number field to access the document. For assistance, contact FERC Online Support.

Dated: August 30, 2013.
Kimberly D. Bose,
Secretary.

[FR Doc. 2013-21830 Filed 9-6-13; 8:45 am]

BILLING CODE 6717-01-P